ENVIRONMENTAL PROTECTION AGENCY

40 CFR Part 52

[EPA-R06-OAR-2005-NM-0009; FRL-9187-8]

Approval and Promulgation of Air Quality Implementation Plans; New Mexico; Revisions to Emissions Inventory Reporting Requirements, and General Provisions

AGENCY: Environmental Protection Agency (EPA).

ACTION: Direct final rule.

SUMMARY: The EPA is taking direct final action to approve revisions to the New Mexico State Implementation Plan (SIP). These revisions concern two separate actions. First, we are approving revisions to regulations on Emission Inventories (EIs) submitted by stationary sources of air pollutants. EIs are critical for the efforts of state, local, and federal agencies to attain and maintain the National Ambient Air Quality Standards (NAAQS) that EPA has established for criteria pollutants such as ozone, particulate matter, and carbon monoxide. The revisions add new definitions; modify existing definitions; and require stationary sources of air pollutants located in New Mexico outside of Bernalillo County to report emissions location information, PM2.5 emissions, and ammonia emissions to New Mexico Environment Department (NMED). The revisions also allow NMED to require speciation of hazardous air pollutants for emissions reporting. Second, we are approving revisions to the New Mexico Administrative Code (NMAC), 20.2.1 NMAC—General Provisions. We are adding a new definition for Significant Figures into the New Mexico SIP. The EPA is approving these two actions pursuant to section 110 of the Federal Clean Air Act (CAA, Act).

DATES: This direct final rule will be effective October 12, 2010 without further notice unless EPA receives adverse comments by September 13, 2010. If adverse comments are received, EPA will publish a timely withdrawal of the direct final rule in the Federal Register informing the public that the rule will not take effect.

ADDRESSES: Submit your comments, identified by Docket No EPA-R06-OAR-2005-NM-0009, by one of the following methods:

• Federal e-Rulemaking Portal: http://www.regulations.gov.

• Follow the online instructions for submitting comments.

• EPA Region 6 “Contact Us” Web site: http://epa.gov/region6/r6coment.htm. Please click on “6PD (Multimedia)” and select “Air” before submitting comments.

• E-mail: Mr. Guy Donaldson at donaldson.guy@epa.gov. Please also send a copy by e-mail to the person listed in the FOR FURTHER INFORMATION CONTACT section below.

• Fax: Mr. Guy Donaldson, Chief, Air Planning Section (6PD-L), at fax number 214-665-7263.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays, and not on legal holidays. Special arrangements should be made for deliveries of boxed information.

Instructions: Direct your comments to Docket No. EPA-R06-OAR-2005-NM-0009. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at 214-665-7253 to make an appointment. If possible, please make the appointment at least two working days in advance of your visit. There will be a 15 cent per page fee for making photocopies of documents. On the day of the visit, please check in at the EPA Region 6 reception area at 1445 Ross Avenue, Suite 700, Dallas, Texas.

The state submittal is also available for public inspection during official business hours, by appointment, at the NMED, Air Quality Bureau, 1301 Siler Road, Building B, Santa Fe, New Mexico 87507.

FOR FURTHER INFORMATION CONTACT: Mr. Emad Shahin for Emission Inventory inquiries, Air Planning Section (6PD-L), Environmental Protection Agency, Region 6, 1445 Ross Avenue, Suite 700, Dallas, Texas 75202-2733, telephone 214-665-6717; fax number 214-665-7263; e-mail address shahin.emad@epa.gov, and Mr. Alan Shar for General Provisions inquiries, Air Planning Section (6PD-L), telephone 214-665-6691; fax number 214-665-7263; e-mail address shar.alan@epa.gov.

SUPPLEMENTARY INFORMATION: Throughout this document “we”, “us”, or “our” refer to EPA.

Outline

I. What actions are we taking?

II. What is a SIP?

III. What is the background for these actions?

IV. What is EPA's evaluation of these revisions?

V. Final Action

VI. Statutory and Executive Order Reviews

I. What actions are we taking?

A. Emission Inventories

We are approving revisions to the New Mexico SIP submitted by the State to meet the EI requirements of the CAA. The revisions were submitted to EPA Region 6 on April 11, 2002, December 3, 2003, and April 25, 2005.

The revisions to part 20.2.73 NMAC (Notice of Intent and Emissions Inventory Requirements) allow NMED to meet EPA's Air Emissions Reporting Requirements (40 CFR Part 51, Subpart A). In addition, the revisions will allow the NMED to collect more specific data regarding Hazardous Air Pollutants. We are approving these SIP revisions pursuant to section 110 of the CAA. The reporting of emissions and emissions-related data will help NMED to attain and maintain the NAAQS. See Chapter A of the TSD for more information.

B. General Provisions

We received a SIP submittal package, with a letter dated April 8, 2010 from the Governor of New Mexico on behalf of the NMED, concerning NMAC, Title 20 Environment Protection, Chapter 2 Air Quality, Part 1 General Provisions (20.2.1 NMAC—General Provisions). This submittal revises the New Mexico SIP by adding a new section 20.2.1.116 Significant Figures to the existing state rule 20.2.1 NMAC—General Provisions. Adopting 20.2.1.116 Significant Figures should facilitate calculating air emissions and determining compliance with an emission standard. We are approving this SIP revision pursuant to section 110 of the Act.

C. EPA's Action

EPA is publishing this rule without prior proposal because we view this as a noncontroversial amendment and anticipate no relevant adverse comments. However, in the proposed rules section of this Federal Register publication, we are publishing a separate document that will serve as the proposal to approve the SIP revision if relevant adverse comments are received. This rule will be effective on October 12, 2010 without further notice unless we receive relevant adverse comments by September 13, 2010. If we receive relevant adverse comments, we will publish a timely withdrawal in the Federal Register informing the public that the rule will not take effect. We will then address all public comments in a subsequent final rule based on the proposed rule. However, we will not institute a second comment period on this action. Any parties interested in commenting must do so now. Please note that if we receive adverse comments on an amendment, paragraph, or section of this rule and if that provision may be severed from the remainder of the rule, we may adopt as final those provisions of the rule that are not the subject of an adverse comment. Further, in accordance with a Consent Decree, we will finalize our action on the Emissions Inventory portion of this SIP revision no later than January 2, 2011¹.

¹ Notice of Proposed Settlement Agreement and Consent Decree, 75 FR 11886, March 12, 2010, and http://www.regulations.gov, docket No. EPA-HQ-OGC-2010-0221.

II. What is a SIP?

Section 110 of the CAA requires states to develop air pollution regulations and control strategies to ensure that air quality meets the NAAQS established by EPA. NAAQS are established under section 109 of the CAA, and currently address six criteria pollutants: carbon monoxide, nitrogen dioxide, ozone, lead, particulate matter, and sulfur dioxide.

The SIP is a set of air pollution regulations, control strategies, other means or techniques, and technical analyses developed by the state, to ensure that the state meets the NAAQS. The SIP is required by section 110 and other provisions of the CAA. These SIPs can be extensive, containing state regulations or other enforceable documents and supporting information such as emissions inventories, monitoring networks, and modeling demonstrations. Each state must submit these regulations and control strategies to EPA for approval and incorporation into the federally-enforceable SIP. Each federally-approved SIP protects air quality primarily by addressing air pollution at its point of origin.

III. What is the background of these actions?

A. Emission Inventory

Emissions inventories are surveys of actual and/or allowable emissions of air pollutants in an area. Emissions inventories are critical for the efforts of state, local, and federal agencies to attain and maintain the NAAQS that EPA has established for criteria pollutants such as ozone, particulate matter, and carbon monoxide. States use emissions inventories submitted by stationary sources in developing the inventories required by the Clean Air Act. In 2005, New Mexico revised its SIP for air quality to amend the State regulations on emissions inventories submitted by stationary sources of air pollutants. The principal statutory authority for emissions inventory reporting requirements is found in section 110(a)(2)(F) of the Act, which provides that SIPs must require periodic reports on the nature and amounts of emissions and emissions-related data as may be prescribed by the EPA Administrator.

On April 11, 2002 New Mexico submitted to EPA a SIP revision that included an amendment to the NMAC regulation 20.2.73, Notice of Intent and Emission Inventory Requirements, Section 7, Definitions, which revised the definition of “Potential Emission Rate”. On December 1, 2003 submitted another revision to the SIP that added three new definitions to Section 7, and revised Section 20.2.73.300, Emission Inventory Requirements, to require smelters to submit an annual report of sulfur input in tons per year, and added emission tracking requirements for sulfur dioxide emission inventories. In July 2004 NMED proposed to revise the State's regulations on emissions inventories. On April 25, 2005 New Mexico submitted SIP revisions that required sources to report emissions location information, PM 2.5 and ammonia emissions, and allowed NMED to require reporting of speciated hazardous air pollutants.

B. General Provisions

The purpose of the General Revisions (20.2.1 NMAC) is to establish general requirements which apply to all parts of Chapter 2 (20.2.1 through 20.2.99 NMAC). We received a request to review and approve a revision to the General Provisions (20.2.1 NMAC) with a letter dated April 8, 2010. This submittal revises the New Mexico SIP by adding a new section, 20.2.1.116—Significant Figures, to the existing state rule 20.2.1 NMAC—General Provisions. The previous version of the 20.2.1 NMAC—General Provisions was approved by EPA on September 26, 1997 (62 FR 50518) at 52.1620(c)(66) effective November 25, 1997. We are approving this revision to the 20.2.1 NMAC—General Provisions as a direct final action.

IV. What is EPA's evaluation of these revisions?

A. Emission Inventories

New Mexico submitted revisions to 20.2.73 NMAC for inclusion into the SIP that amend requirements on emissions inventories submitted by stationary sources of air pollutants located in New Mexico outside of Bernalillo County. The emissions inventory requirements for stationary sources of air pollutants were revised to (1) include reporting on emissions location information, PM2.5 emissions, and ammonia emissions; and (2) allow NMED to require speciation of hazardous air pollutants for emissions reporting. In 2002, EPA issued the consolidated emissions reporting rule (CERR), (June 10, 2002 Federal Register, 67 FR 39602). The rule consolidated the various emissions reporting requirements that already exist into one place in the CFR, established new reporting requirements related to particulate matter less than or equal to 2.5 microns (PM2.5) and regional haze, and established new requirements for the statewide reporting of area source and mobile source emissions. On December 17, 2008, EPA issued the Air Emissions Reporting Rule (73 FR 76539) which revised the emissions reporting requirements. The requirements can be found at 40 CFR 51 Subpart A. We have evaluated the State's submittal and have determined that the revisions meet the applicable requirements of the CAA and EPA's regulations. For more information on our evaluation, please see our Technical Support Document found in the electronic docket at http://www.regulations.gov.

Approval of these revisions will make New Mexico's emission inventory requirements consistent with EPA's Air Emissions Reporting Requirements and will make EPA's approved SIP consistent with the State's rules.

B. General Provisions

The revision to 20.2.1 NMAC—General Provisions, adds a new section 116, which sets forth the procedure to properly round significant digits in an air emission calculation, and its reporting to the NMED. These significant figures procedures will clarify any confusion with regards to emission calculations and reporting of the values. Section 116 adopts the same significant figures procedures described in EPA's June 6, 1990 Memorandum, from William G. Laxton, Technical Support Division Director to John S. Seitz, Stationary Source Compliance Division Director, entitled “Performance Test Calculation Guidelines.” A copy of this guidance document is available in the EPA docket No. EPA-R06-OAR-2005-NM-0009 for public inspection and review. These significant figures procedures will assist the sources in properly reporting air emissions, and assist the NMED's personnel in determining sources' compliance with applicable emissions limitations. This section should facilitate enforcement of the rules, and enhance the New Mexico SIP.

V. Final Action

Today we are approving revisions to two portions of the New Mexico SIP. First, we are approving revisions to regulations on EIs submitted by stationary sources of air pollutants, in three SIP revisions submitted on April 11, 2002, December 1, 2003, and April 25, 2005. The revisions add new definitions, modify existing definitions, and require stationary sources of air pollutants located in New Mexico outside of Bernalillo County to report emissions location to NMED. The revisions also allow NMED to require speciation of hazardous air pollutants for purposes of reporting. Second, we are approving revisions to the 20.2.1 NMAC—General Provisions. We are also adding a new definition for Significant Figures into the New Mexico SIP, a revision that was submitted on April 8, 2010. EPA is approving these two actions pursuant to section 110 of the Act.

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act;

• Does not provide EPA with the discretionary authority to address, as appropriate, disproportionate human health or environmental effects, using practicable and legally permissible methods, under Executive Order 12898 (59 FR 7629, February 16, 1994);

• Does not have tribal implications as specified by Executive Order 13175 (65 FR 67249, November 9, 2000), because the SIP is not approved to apply in Indian country located in the State, and EPA notes that it will not impose substantial direct costs on tribal governments or preempt tribal law; and

• Is not a “major rule” as defined by 5 U.S.C. 804(2) under the Congressional Review Act, 5 U.S.C. 801 et seq., added by the Small Business Regulatory Enforcement Fairness Act of 1996. A major rule cannot take effect until 60 days after it is published in the Federal Register. This action is not a “major rule.”

Under section 307(b)(1) of the Clean Air Act, petitions for judicial review of this action must be filed in the United States Court of Appeals for the appropriate circuit by October 12, 2010. Filing a petition for reconsideration by the Administrator of this final rule does not affect the finality of this action for the purposes of judicial review nor does it extend the time within which a petition for judicial review may be filed, and shall not postpone the effectiveness of such rule or action. This action may not be challenged later in proceedings to enforce its requirements (See section 307(b)(2) of the Act.)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: August 3, 2010.
Al Armendariz,
Regional Administrator, Region 6.

40 CFR part 52 is amended as follows:

PART 52—[AMENDED]

1. The authority citation for part 52 continues to read as follows:

Authority: 42 U.S.C. 7401 et seq.

Subpart GG—New Mexico

2. The table in § 52.1620(c) entitled “EPA Approved New Mexico Regulations” is amended by:

a. Revising the entry for Part 1 under New Mexico Administrative Code (NMAC) Title 20—Environment Protection, Chapter 2—Air Quality.

b. Revising the entry for Part 73 under New Mexico Administrative Code (NMAC) Title 20—Environment Protection, Chapter 2—Air Quality.

The revisions read as follows:

§ 52.1620 Identification of plan.

* * * * *

(c) * * *

EPA Approved New Mexico Regulations
State citation | Title/subject | State approval/submittal date | EPA approval date | Comments
New Mexico Administrative Code (NMAC) Title 20—Environment Protection Chapter 2—Air Quality
Part 1 | General Provisions | 4/8/2010 | 8/12/2010 [Insert FR page number where document begins] |
| * * * * * * *
Part 73 | Notice of Intent and Emissions Inventory Requirements | 4/25/2005 | 8/12/2010 [Insert FR page number where document begins] |
| * * * * * * *

* * * * *

[FR Doc. 2010-19819 Filed 8-11-10; 8:45 am]

BILLING CODE 6560-50-P